DEPARTMENT OF LABOR

Employment and Training Administration

[TA-W-51,051]

Carbone Kirwood LLC, Cleveland, OH; Notice of Termination of Investigation

Pursuant to section 221 of the Trade Act of 1974, as amended, an investigation was initiated on March 4, 2003 in response to a worker petition filed by a company official on behalf of workers at Carbone Kirwood LLC, Cleveland, Ohio.

The petitioner has requested that the petition be withdrawn. Consequently, the investigation has been terminated.

Signed in Washington, DC, this 10th day of March, 2003.
Richard Church,
Certifying Officer, Division of Trade Adjustment Assistance.

[FR Doc. 03-10745 Filed 4-30-03; 8:45 am]

BILLING CODE 4510-30-P